DEPARTMENT OF DEFENSE

Department of the Army, Corps of Engineers

Notice of Availability of Final Environmental Impact Statement for a Proposed Highway Between I-12 and Bush, LA in St. Tammany Parish, LA

AGENCY: Department of the Army, U.S. Army Corps of Engineers, DOD.

ACTION: Notice of availability.

SUMMARY: Pursuant to the National Environmental Policy Act (NEPA), the U.S. Army Corps of Engineers (USACE), New Orleans District has prepared a Final Environmental Impact Statement (FEIS) for a project proposed by the Louisiana Department of Transportation and Development (LADOTD) to construct a new highway between 1-12 and Bush, Louisiana, in St. Tammany Parish. On September 9, 2011, USACE published a notice in the Federal Register (76 FR 55887), informing the public of the availability of the Draft Environmental Impact Statement (DEIS) that analyzes the potential effects of implementing each of four build and the “no-build” alternative scenarios for a four-lane arterial highway from the southern terminus of the current, modern four-lane arterial portion of LA 21 in Bush, Louisiana, to I-12, a distance between 17.4 and 21 miles. The FEIS has been prepared to respond to comments received from agencies, organizations, and members of the public on the DEIS.

The USACE is the lead Federal agency responsible for the FEIS and information contained in the FEIS serves as the basis for a Department of the Army permit decision under section 404 of the Clean Water Act. The FEIS also provides information for Federal, State and local agencies having jurisdictional responsibility for affected resources. Any comments on the FEIS will be considered by USACE and responses will be provided for substantive issues raised which have not been addressed in the DEIS or FEIS.

DATES: All written comments must be postmarked on or before April 8, 2012.

ADDRESSES: Comments may be submitted in writing to: U.S. Corps of Engineers, New Orleans District, PO Box 60267, New Orleans, LA 70160. ATTN: Regulatory Branch, or via email to I-12toBush@usace.army.mil.

FOR FURTHER INFORMATION CONTACT: James A. Barlow, JR., Ph.D., Regulatory Branch, phone (504) 862-2250 or email at james.a.barlow@usace.army.mil, or Ms. Brenda Archer, Regulatory Branch, phone (504) 862-2046 or email at brenda.a.archer@usace.army.mil.

SUPPLEMENTARY INFORMATION: The FEIS has been prepared to address the NEPA, environmental and cultural resource laws, USACE Regulatory Program Regulations (Title 33 of the Code of Federal Regulations [CFR] Parts 320-332), including the 33 CFR Part 325, Appendix B, and the requirements of the section 404(b)(1) guidelines (40 CFR Part 230), to gather information needed for the USACE permit decision-making process regarding a permit application (MVN-2005-0037) submitted by the LADOTD to construct a four-lane arterial highway from the southern terminus of the current, four-lane arterial portion of LA 21 in Bush, Louisiana, to I-12, a distance between 17.4 and 21 miles.

LADOTD has stated that the proposed highway is needed as an alternative north-south connection that could reduce congestion and delays for those traveling from northern St. Tammany Parish and Washington Parish to I-12. As stated by LADOTD, the needs of the proposed action are to: (1) Fulfill the legislative mandate, Louisiana Revised Statute 47:820.2B(e); (2) provide a four-lane arterial to I-12 from the southern terminus of the current, modern, four-lane arterial portion of LA 21; (3) divert traffic from Washington and northern St. Tammany Parishes onto a four-lane, arterial to free capacity for local trips on segments of existing routes in southern suburban areas and reduce congestion during peak and some non-peak periods; and (4) support and enhance the existing and developing economic activities in Washington and northern St. Tammany Parishes that rely on the highway network to reach their markets by providing a travel time savings. The “No-build and four build alternatives where evaluated in the DEIS and carried over into the FEIS.

• No-Build alternative—Continuation of existing roadway network in the region in its current condition to serve as the transportation network.

• Alternative P (applicant's proposed alignment)—Construction of a new 17.4 mile highway segment beginning at the intersection of LA HWY 21and LA HWY 41 following the abandoned railroad line to a point north of Talisheek, Louisiana before heading southwesterly to connect to I-12 at the LA Hwy 1088 interchange with I-12.

• Alternative Q (least damaging practicable alternative)—Construction of a new 19.8 mile highway segment beginning at the intersection of LA HWY 21 and LA HWY 41 following the abandoned railroad line to a point approximately 1.7 miles north of LA 36 leaving the abandoned railroad line connecting to LA 434 then to I-12 at an existing interchange.

• Alternative J—Construction of a new 21.1 mile highway segment beginning at the intersection of LA HWY 21 and LA HWY 41 following the abandoned railroad line to a point north of the Slidell Municipal Airport, widening Airport Road before connecting to I-12.

• Alternative B/O—Construction of a new 19.5 mile highway segment upgrading Existing LA HWY 21 to just north of Waldheim then continue as a new four-lane roadway approximately 5 miles west of LA 1083, terminating at LA 1088 near I-12.

The Corps of Engineers expects to complete the National Environmental Policy Act process with a Record of Decision no sooner than 30 days after the FEIS is made available to the public. The Record of Decision will document the decision regarding the Department of the Army permit application.

The FEIS is available for review at the following locations:

(1) An electronic version of the FEIS may be downloaded and reviewed at the USACE, New Orleans District Web site: http://www.mvn.usace.army.mil/ops/regulatory/Bush.htm.

(2) A hardcopy of the FEIS will be available for review by appointment only at USACE, New Orleans District, 7400 Leake Avenue, New Orleans, LA 70188. To schedule an appointment please contact either James A. Barlow, JR., phone (504) 862-2250 or Ms. Brenda Archer, phone (504) 862-2046. (3) A hardcopy of the FEIS will be available for review at the following libraries:

1. St. Tammany Parish Library.

—Abita Springs Branch, 71683 Leveson Street, Abita Springs, LA 70420

—Bush Branch, 81597 Highway 41, Bush, LA 70431

—Covington Branch, 310 W. 21st Avenue, Covington, LA 70433

—Lee Road Branch, 79213 Highway 40, Covington, LA 70435

—Mandeville Branch, 844 Girod Street, Mandeville, LA 70448

—Pearl River Branch, 64580 Highway 41, Pearl River, LA 70452

—Slidell Branch, 555 Robert Boulevard, Slidell, LA 70458

2. Franklinton Library, 825 Free Street, Franklinton, LA 70438

3. Bogalusa Library, 304 Avenue F, Bogalusa, LA 70427

4. Louisiana State Library, 701 North 4th Street, Baton Rouge, LA 70802

5. University of New Orleans, Earl K. Long Library, Louisiana Collection, 2000 Lakeshore Drive, New Orleans, LA 70148

Dated: March 9, 2012.
Edward R. Fleming,
Colonel, U.S. Army, District Commander.

[FR Doc. 2012-5630 Filed 3-8-12; 8:45 am]

BILLING CODE 3720-58-P